DEPARTMENT OF HEALTH AND HUMAN SERVICES

Centers for Disease Control and Prevention

Science and Program Review Subcommittee (SPRS) and the Advisory Committee for Injury Prevention and Control (ACIPC): Meetings

In accordance with section 10(a)(2) of the Federal Advisory Committee Act (Pub. L. 92-463), the Centers for Disease Control and Prevention (CDC) announces the following subcommittee and committee meetings:

Name: Science and Program Review Subcommittee to ACIPC.

Time and Dates: 6:30 p.m.-9 p.m., August 18, 2002. 9 a.m.-12 p.m., August 19, 2002.

Place: The Westin Atlanta Airport, 4736 Best Road, College Park, Georgia 30337.

Status: Open: 6:30 p.m.-7 p.m., August 18, 2002. Closed: 7 p.m.-9 p.m., August 18, 2002, through 12 p.m., August 19, 2002.

Purpose: The Subcommittee provides advice on the needs, structure, progress and performance of the National Center for Injury Prevention and Control (NCIPC) programs. The Subcommittee provides second-level scientific and programmatic review for applications for research grants, cooperative agreements, and training grants related to injury control and violence prevention, and recommends approval of projects that merit further consideration for funding support. The Subcommittee also advises on priorities for research to be supported by contracts, grants, and cooperative agreements and provides concept review of program proposals and announcements.

Matters To Be Discussed: Agenda items include updates on research and review activities, agenda for November meeting, and role of secondary reviewers. Beginning at 7 p.m., August 18, through 12 p.m., August 19, the Subcommittee will conduct a secondary review and discuss the results of Injury Control Research Center (ICRC) mid-course reviews of continuing applications of two Centers; results of an Injury Research Grant Review Committee (IRGRC) review of an ICRC that submitted a revised application; results of the IRGRC review of individual research grant applications; results of reviews by NCIPC Disease, Disability, and Injury Prevention and Control Special Emphasis Panels; and Small Business Innovation Research applications. This portion of the meeting will be closed to the public in accordance with provisions set forth in section 552b(c)(4) and (6), title 5 U.S.C., and the Determination of the Acting Director, Management Analysis and Services Office, CDC, pursuant to Pub. L. 92-463.

Name: Advisory Committee for Injury Prevention and Control.

Time and Date: 1:00 p.m.-2:30 p.m., August 19, 2002.

Place: The Westin Atlanta Airport, 4736 Best Road, College Park, Georgia 30337.

Status: Open: 1 p.m.-1:45 p.m., August 19, 2002.

Closed: 1:45 p.m.-2:30 p.m., August 19, 2002.

Purpose: The Committee advises and makes recommendations to the Secretary, Health and Human Services; the Director, CDC; and the Director, NCIPC; regarding feasible goals for the prevention and control of injury. The Committee makes recommendations regarding policies, strategies, objectives, and priorities, and reviews progress toward injury prevention and control. The Committee provides advice on the appropriate balance of intramural and extramural research, and also provides guidance on the needs, structure, progress and performance of intramural programs, and on extramural scientific program matters. The Committee provides second-level scientific and programmatic review for applications for research grants, cooperative agreements, and training grants related to injury control and violence prevention, and recommends approval of projects that merit further consideration for funding support. The Committee also recommends areas of research to be supported by contracts and cooperative agreements and provides concept review of program proposals and announcements.

Matters To Be Discussed: Agenda items include an update on Center activities from the Director, NCIPC. Beginning at 1:45 p.m. through 2:30 p.m., August 19, the Committee will vote on results of the secondary review. This portion of the meeting will be closed to the public in accordance with provisions set forth in section 552b(c)(4) and (6), title 5 U.S.C., and the Determination of the Acting Director, Management Analysis and Services Office, CDC, pursuant to Pub. L. 92-463.

Agenda items are subject to change as priorities dictate.

Contact Person for More Information: Ms. Louise Galaska, Executive Secretary, ACIPC, NCIPC, CDC, 4770 Buford Highway, NE, M/S K02, Atlanta, Georgia 30341-3724, telephone 770/488-4694.

The Director, Management Analysis and Services Office, has been delegated the authority to sign Federal Register notices pertaining to announcements of meetings and other committee management activities, for both the Centers for Disease Control and Prevention and the Agency for Toxic Substances and Disease Registry.

Dated: July 25, 2002.
John Burckhardt,
Acting Director, Management Analysis and Services Office, Centers for Disease Control and Prevention.

[FR Doc. 02-19513 Filed 8-1-02; 8:45 am]

BILLING CODE 4163-18-P